DEPARTMENT OF ENERGY

Federal Energy Regulatory Commission

[Docket No. EL00-95-000, et al.]

San Diego Gas & Electric Company v. Sellers of Energy and Ancillary Services Into Markets Operated by the California Independent System Operator Corporation and the California Power Exchange; Notice of Designation of Certain Commission Personnel as Non-Decisional

Commission staff member Aaron Siskind, of the Office of Energy Market Regulation, previously was assigned to assist the Office of Administrative Litigation in settlement and litigation proceedings in the above-referenced dockets. In addition, Mr. Siskind remains assigned to the designated matters to assist in litigation proceedings.

As non-decisional staff, Mr. Siskind will not participate in an advisory capacity in the Commission's review of any future filings in the above-referenced dockets, including offers of settlement or settlement agreements.

Mr. Siskind will not be assigned as advisory staff to review and process subsequent filings that are made in the above-referenced dockets, including any offer of settlement or settlement agreement. Non-decisional staff and advisory staff are prohibited from subsequent communications with one another concerning matters in the above-referenced dockets.

Dated: March 28, 2012.
Kimberly D. Bose,
Secretary.

[FR Doc. 2012-8020 Filed 4-3-12; 8:45 am]

BILLING CODE 6717-01-P